DEPARTMENT OF EDUCATION

[Docket No.: ED-2014-ICCD-0166]

Agency Information Collection Activities; Comment Request; 21st Century Community Learning Centers Annual Performance Report

AGENCY: Office of Elementary and Secondary Education (OESE), Department of Education (ED).

ACTION: Notice.

SUMMARY: In accordance with the Paperwork Reduction Act of 1995 (44 U.S.C. 3501 et seq.), ED is proposing a revision of an existing information collection.

DATES: Interested persons are invited to submit comments on or before February 20, 2015.

ADDRESSES: Comments submitted in response to this notice should be submitted electronically through the Federal eRulemaking Portal at http://www.regulations.gov by selecting Docket ID number ED-2014-ICCD-0166 or via postal mail, commercial delivery, or hand delivery. If the regulations.gov site is not available to the public for any reason, ED will temporarily accept comments at ICDocketMgr@ed.gov. Please note that comments submitted by fax or email and those submitted after the comment period will not be accepted; ED will only accept comments during the comment period in this mailbox when the regulations.gov site is not available. Written requests for information or comments submitted by postal mail or delivery should be addressed to the Director of the Information Collection Clearance Division, U.S. Department of Education, 400 Maryland Avenue SW., LBJ, Mailstop L-OM-2-2E319, Room 2E115, Washington, DC 20202.

FOR FURTHER INFORMATION CONTACT: For specific questions related to collection activities, please contact Daren Hedlund, 202-401-3008.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: 21st Century Community Learning Centers Annual Performance Report.

OMB Control Number: 1810-0668.

Type of Review: A revision of an existing information collection.

Respondents/Affected Public: Private sector.

Total Estimated Number of Annual Responses: 54.

Total Estimated Number of Annual Burden Hours: 2,433.

Abstract: The purpose of the 21st Century Community Learning Centers (21st CCLC) program, as authorized under title IV, part B, of the Elementary and Secondary Education Act, section 4201 et seq., (20 U.S.C. 7171 et seq., attached to submission package), is to provide expanded academic enrichment opportunities for children attending low-performing schools. Tutorial services and academic enrichment activities are designed to help students meet local and state academic standards in subjects such as reading and math. In addition, 21st CCLC programs provide youth development activities, drug and violence prevention programs, technology education programs, art, music and recreation programs, counseling, and character education to enhance the academic component of the program. In support of this program, Congress appropriated nearly $1.1 billion for 21st CCLC programs for fiscal year 2013. Consisting of public and nonprofit agencies, community- and faith-based organizations, local businesses, postsecondary institutions, scientific/cultural and other community entities, 4,077 subgrantees-operating 9,989 centers-provided academic and enrichment services and activities to over 1.7 million children.

Dated: December 16, 2014.
Tomakie Washington,
Acting Director, Information Collection Clearance Division, Privacy, Information and Records Management Services, Office of Management.

[FR Doc. 2014-29801 Filed 12-19-14; 8:45 am]

BILLING CODE 4000-01-P